DEPARTMENT OF THE TREASURY

Notice of Availability of the Treasury Department's Annual Report on Alternative Fuel Vehicle Acquisitions

AGENCY: Departmental Offices, Treasury.

ACTION: Notice.

SUMMARY: This notice advises the public how it may access the Treasury Department's annual report on alternative fuel vehicle acquisitions for FY 2004.

FOR FURTHER INFORMATION CONTACT: Carolyn Austin-Diggs, Director, Office of Asset Management, 202-622-0500 (not a toll-free call).

SUPPLEMENTARY INFORMATION: In accordance with section 8 of the Energy Policy Act, Pub. L. 105-38, as amended (42 U.S.C. 13218), the Department of the Treasury gives notice that the Department's annual report on alternative fuel vehicle acquisitions for FY 2004 is available at the following Web site: http://www.treas.gov/offices/management/asset-management/personal-property/fleet-and-aviation.

Dated: June 10, 2005.
Barry K. Hudson,
Acting Chief Financial Officer.

[FR Doc. 05-11981 Filed 6-16-05; 8:45 am]

BILLING CODE 4811-33-P